DEPARTMENT OF TRANSPORTATION

Federal Highway Administration

Environmental Impact Statement: San Bernardino County, CA

AGENCY: Federal Highway Administration (FHWA), DOT.

ACTION: Notice of Intent.

SUMMARY: The FHWA is issuing this notice to advise the public of its intent to prepare an Environmental Impact Statement (EIS) for the proposed realignment and widening of State Route 58 Freeway (SR-58) located west of the City of Barstow near the community of Hinkley in San Bernardino County, California.

FOR FURTHER INFORMATION CONTACT: Tay Dam, Senior Project Development Engineer, Federal Highway Administration, 888 South Figueroa, Suite 1850, Los Angeles, CA 90017. Telephone: (213) 202-3954. Boniface Udotor, California Department of Transportation District 8, 464 W. Fourth Street, San Bernardino, CA 92401. Telephone: (909) 383-1387.

SUPPLEMENTARY INFORMATION: The FHWA, in cooperation with the California Department of Transportation, District 8, will prepare an EIS to realign and widen SR-58 from a two-lane conventional highway to a four-lane expressway/freeway west of the City of Barstow near the community of Hinkley (between Post Mile 21.8 and Post Mile 31.1) in San Bernardino County, California. The project length is approximately 10 miles long. As proposed, the EIS document would address the following current and future transportation issues for this area:

• This section of SR-58 is currently a nonstandard two-lane conventional highway between a four-lane freeway to the west and a four-lane freeway to the east. The existing highway section has insufficient capacity to handle present and future travel demands, which is forecasted to be more than double the year 2030. Since SR-58 remains the main east-west corridor for interregional travelers, no other viable alternatives for travel exist. This proposed project will close one gap in lane continuity and remove the bottleneck condition.

• The existing two-lane highway has numerous driveways and intersecting cross-streets, which present numerous conflict points affecting the operation of the highway. Upgrading from a non-standard two-lane highway to a full-standard four-lane expressway/freeway would allow for better passing and increased sight distance. A separated median would reduce the risk of head-on collisions. A clearance zone (clear recovery zone) from the edge of the traveled way to obstructions would provide an unobstructed roadside for errant drivers to regain control.

• The pavement section of SR-58 for this area is inadequate to handle the high movement of truck volumes, which are contributing to rising maintenance costs. It is expected that SR-58 will continue to carry high truck volumes because the route is designated for extra-legal and oversized loads. Currently, SR-58 serves as the major connection point between I-15 in Bakersfield and the I-15/I-40 in Barstow. A new pavement design would meet standards for carrying truckloads and reduce future maintenance costs.

A preferred alternative has not been selected at this point. The following four alternatives will be addressed in the EIS document:

• Alternative 1: No Build. Under this alternative, the capacity of SR-58 would remain the same as current traffic conditions continue to worsen while local developments take place. This alternative would not address the transportation issues described above.

• Alternative 2: Realign and Widen (South). This alternative realigns and widens SR-58 from two lanes to a four-lane expressway/freeway about one-half mile south of the existing SR-58.

• Alternative 3: Widen the Existing. This alternative follows the existing SR-58 alignment or a slightly offset alignment throughout the project limits.

• Alternative 4: Realign and Widen (North). This alternative consists of a realignment of SR-58 to a four-lane expressway/freeway just north of the existing SR-58.

The alternatives described above will be further refined through efforts conducted under the National Environmental Policy Act (40 CFR parts 1500-1508, and 23 CFR part 771), the 1990 Clear Air Act Amendments, section 404 of the Clean Water Act, Executive Order 12898 regarding environmental justice, the National Historic Preservation Act, the Endangered Species Act, the section 4(f) of the U.S. Department of Transportation Act, and other federal environmental protection laws, regulations, policies, and executive orders. The EIS will incorporate comments from the public scoping process as well as analysis in technical studies. Other alternatives suggested during scoping process would be considered during the development of the EIS. The EIS will consider any additional reasonable alternatives identified during scoping process. Letters describing the proposed action and soliciting comments will be sent to appropriate Federal, State, regional and local agencies, and to private organizations and citizens who previously have expressed, or are known to have, an interest in this project. Location and details of the public scoping meeting for the proposed project will be advertised in local newspapers and other media and will be hosted by the California Department of Transportation, District 8.

(Catalog of Federal Domestic Assistance Program Number 20.205, Highway Research, Planning and Construction. The regulations implementing Executive Order 12372 regarding intergovernmental consultation Federal programs and activities apply to this program.)

Issued On: May 2, 2007.
Maiser Khaled,
Director, Project Development & Environment, California Division, Federal Highway Administration.

[FR Doc. E7-8939 Filed 5-9-07; 8:45 am]

BILLING CODE 4910-22-P